NUCLEAR REGULATORY COMMISSION

[Docket Nos. 50-250-SLR-2 and 50-251-SLR-2; ASLBP No. 24-981-01-SLR-BD01]

Florida Power & Light Company; Establishment of Atomic Safety and Licensing Board

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding:

Florida Power & Light Company (Turkey Point Nuclear Generating Units 3 and 4)

This proceeding involves the twenty-year subsequent license renewal of Renewed Facility Operating Licenses DPR-31 and DPR-41, which currently authorize Florida Power & Light Company to operate Turkey Point Nuclear Generating Units 3 and 4 until, respectively, July 19, 2032 and April 10, 2033. In response to a notice published in the Federal Register, see 88 FR 62110 (Sept. 8, 2023), Miami Waterkeeper filed a hearing request.

The Board is comprised of the following Administrative Judges:

Emily I. Krause, Chair, Atomic Safety and Licensing Board Panel, U.S. Nuclear Regulatory Commission, Washington, DC 20555-0001

Dr. Sue H. Abreu, Atomic Safety and Licensing Board Panel, U.S. Nuclear Regulatory Commission, Washington, DC 20555-0001

Dr. Michael F. Kennedy, Atomic Safety and Licensing Board Panel, U.S. Nuclear Regulatory Commission, Washington, DC 20555-0001

All correspondence, documents, and other materials shall be filed in accordance with the NRC E-Filing rule. See 10 CFR 2.302.

Rockville, Maryland.
Dated: November 30, 2023.
Edward R. Hawkens,
Chief Administrative Judge, Atomic Safety and Licensing Board Panel.

[FR Doc. 2023-26715 Filed 12-5-23; 8:45 am]

BILLING CODE 7590-01-P